ENVIRONMENTAL PROTECTION AGENCY

40 CFR Part 271

[EPA-R04-RCRA-2012-0179; FRL-9917-52-Region-4]

Florida: Final Authorization of State Hazardous Waste Management Program Revisions

AGENCY: Environmental Protection Agency.

ACTION: Proposed rule.

SUMMARY: Florida has applied to the Environmental Protection Agency (EPA) for final authorization of changes to its hazardous waste program under the Resource Conservation and Recovery Act (RCRA). These changes correspond to certain Federal rules promulgated between July 1, 2007 and June 30, 2009, and July 1, 2010 and June 30, 2011 (also known as RCRA Clusters XVIII, XIX and XXI). With this proposed rule, EPA is proposing to grant final authorization to Florida for these changes. Along with this proposed rule, EPA is publishing an immediate final rule in the “Rules and Regulations” section of today's Federal Register pursuant to which EPA is authorizing these changes. EPA did not issue a proposed rule before today because EPA believes this action is not controversial and does not expect comments that oppose it. EPA has explained the reasons for this authorization in the immediate final rule. Unless EPA receives written comments that oppose this authorization during the comment period, the immediate final rule in today's Federal Register will become effective on the date it establishes, and EPA will not take further action on this proposal. If EPA receives comments that oppose this action, EPA will withdraw the immediate final rule and it will not take effect. EPA will then respond to public comments in a later final rule based on this proposed rule. You may not have another opportunity to comment on these State program changes. If you want to comment on this action, you must do so at this time.

DATES: Send your written comments by November 7, 2014.

ADDRESSES: Submit your comments, identified by Docket ID No. EPA-R04-RCRA-2012-0179, by one of the following methods:

• Federal eRulemaking Portal: www.regulations.gov. Follow the on-line instructions for submitting comments.

• Email: shipley.anita@epa.gov

• Fax: (404) 562-9964 (prior to faxing, please notify the EPA contact listed below)

• Mail: Send written comments to Anita K. Shipley, Permits and State Programs Section, RCRA Programs and Materials Management Branch, RCRA Division, U.S. Environmental Protection Agency, Atlanta Federal Center, 61 Forsyth Street SW., Atlanta, Georgia 30303-8960.

• Hand Delivery or Courier: Deliver your comments to Anita K. Shipley, Permits and State Programs Section, RCRA Programs and Materials Management Branch, RCRA Division, U.S. Environmental Protection Agency, Atlanta Federal Center, 61 Forsyth Street SW., Atlanta, Georgia 30303-8960. Such deliveries are only accepted during the Regional Office's normal hours of operation, and special arrangements should be made for deliveries of boxed information.

Please see the immediate final rule in the “Rules and Regulations” section of today's Federal Register for detailed instructions on how to submit comments.

FOR FURTHER INFORMATION CONTACT: Anita K. Shipley, Permits and State Programs Section, RCRA Programs and Materials Management Branch, RCRA Division, U.S. Environmental Protection Agency, Atlanta Federal Center, 61 Forsyth Street SW., Atlanta, Georgia 30303; telephone number: (404) 562-8466; fax number: (404) 562-9964; email address: shipley.anita@epa.gov.

SUPPLEMENTARY INFORMATION: For additional information, please see the immediate final rule published in the “Rules and Regulations” section of today's Federal Register.

Dated: August 27, 2014.
Heather McTeer Toney,
Regional Administrator, Region 4.

[FR Doc. 2014-24007 Filed 10-7-14; 8:45 am]

BILLING CODE 6560-50-P